DEPARTMENT OF ENERGY

Federal Energy Regulatory Commission

Combined Notice of Filings #1

Take notice that the Commission received the following electric corporate filings:

Docket Numbers: EC23-2-000.

Applicants: Starwood Energy Group Global, L.L.C.

Description: Supplement to October 4, 2022 Application for Authorization Under Section 203 of the Federal Power Act of Starwood Energy Group Global, L.L.C.

Filed Date: 11/22/22.

Accession Number: 20221122-5081.

Comment Date: 5 p.m. ET 12/2/22.

Docket Numbers: EC23-30-000.

Applicants: Madison BTM LLC, Madison ESS, LLC, Rumford ESS, LLC, South Portland ESS, LLC, Sanford ESS, LLC, Ocean State BTM, LLC, AE-ESS NWS 1, LLC.

Description: Joint Application for Authorization Under Section 203 of the Federal Power Act of Madison BTM LLC, et al.

Filed Date: 11/21/22.

Accession Number: 20221121-5211.

Comment Date: 5 p.m. ET 12/12/22.

Docket Numbers: EC23-31-000.

Applicants: GRP Franklin, LLC, GRP Madison, LLC, GRP TE Lessee, LLC.

Description: Joint Application for Authorization Under Section 203 of the Federal Power Act of GRP Franklin, LLC, et al.

Filed Date: 11/21/22.

Accession Number: 20221121-5216.

Comment Date: 5 p.m. ET 12/12/22.

Take notice that the Commission received the following exempt wholesale generator filings:

Docket Numbers: EG23-25-000.

Applicants: Chaves County Solar II, LLC.

Description: Chaves County Solar II, LLC submits Notice of Self-Certification of Exempt Wholesale Generator Status.

Filed Date: 11/21/22.

Accession Number: 20221121-5195.

Comment Date: 5 p.m. ET 12/8/22.

Take notice that the Commission received the following Complaints and Compliance filings in EL Dockets:

Docket Numbers: EL22-15-001; ER22-1014-002.

Applicants: New York Power Authority.

Description: Supplement to September 8, 2022 Filing in Compliance with March 11 and July 5, 2022 Orders of New York Power Authority.

Filed Date: 11/21/22.

Accession Number: 20221121-5152.

Comment Date: 5 p.m. ET 12/1/22.

Take notice that the Commission received the following electric rate filings:

Docket Numbers: ER10-1119-007; ER10-1123-009.

Applicants: Ameren Illinois Company, Union Electric Company.

Description: Notice of Non-Material Change in Status of Ameren Illinois Company, et al.

Filed Date: 11/21/22.

Accession Number: 20221121-5213.

Comment Date: 5 p.m. ET 12/12/22.

Docket Numbers: ER19-1428-006.

Applicants: ISO New England Inc.

Description: ISO-NE; Docket ER19-1428-005; Comp. Filing (Rev. to Inventoried Energy Program) to be effective 1/23/2023.

Filed Date: 11/22/22.

Accession Number: 20221122-5085.

Comment Date: 5 p.m. ET 12/13/22.

Docket Numbers: ER21-779-001.

Applicants: NorthWestern Corporation.

Description: Compliance filing: Order No. 864 2nd Compliance Filing (Montana OATT) to be effective 1/27/2020.

Filed Date: 11/22/22.

Accession Number: 20221122-5171.

Comment Date: 5 p.m. ET 12/13/22.

Docket Numbers: ER22-2452-001.

Applicants: Kentucky Utilities Company.

Description: Refund Report: APCo Borderline Service Refund Report to be effective N/A.

Filed Date: 11/21/22.

Accession Number: 20221121-5163.

Comment Date: 5 p.m. ET 12/8/22.

Docket Numbers: ER22-2970-001.

Applicants: AEP Generation Resources Inc.

Description: Tariff Amendment: MBR Tariff FERC Electric Tariff For Market-Based Sales to be effective 11/28/2022.

Filed Date: 11/22/22.

Accession Number: 20221122-5117.

Comment Date: 5 p.m. ET 12/13/22.

Docket Numbers: ER22-2971-001.

Applicants: Ohio Valley Electric Corporation.

Description: Tariff Amendment: Amendment to MBR Tariff to be effective 11/28/2022.

Filed Date: 11/22/22.

Accession Number: 20221122-5158.

Comment Date: 5 p.m. ET 12/13/22.

Docket Numbers: ER22-2983-001.

Applicants: Ohio Power Company.

Description: Tariff Amendment: Ohio Power MBR Revision to be effective 11/28/2022.

Filed Date: 11/22/22.

Accession Number: 20221122-5141.

Comment Date: 5 p.m. ET 12/13/22.

Docket Numbers: ER23-474-000.

Applicants: California Independent System Operator Corporation.

Description: § 205(d) Rate Filing: 2022-11-21 Washington WEIM Greenhouse Gas Amendment to be effective 12/31/9998.

Filed Date: 11/21/22.

Accession Number: 20221121-5148.

Comment Date: 5 p.m. ET 12/8/22.

Docket Numbers: ER23-475-000.

Applicants: Northern States Power Company, a Minnesota corporation.

Description: § 205(d) Rate Filing: 2022-11-21 OTP SISA 715-NSP to be effective 11/22/2022.

Filed Date: 11/21/22.

Accession Number: 20221121-5153.

Comment Date: 5 p.m. ET 12/8/22.

Docket Numbers: ER23-476-000.

Applicants: Great Pathfinder Wind, LLC.

Description: Baseline eTariff Filing: Reactive Power Tariff Application to be effective 2/1/2023.

Filed Date: 11/21/22.

Accession Number: 20221121-5178.

Comment Date: 5 p.m. ET 12/8/22.

Docket Numbers: ER23-477-000.

Applicants: Midcontinent Independent System Operator, Inc.

Description: § 205(d) Rate Filing: 2022-11-22_SA 3175 Delta's Edge Solar-Entergy Mississippi 3rd Rev GIA (J679) to be effective 11/14/2022.

Filed Date: 11/22/22.

Accession Number: 20221122-5029.

Comment Date: 5 p.m. ET 12/8/22.

Docket Numbers: ER23-478-000.

Applicants: Midcontinent Independent System Operator, Inc., Union Electric Company.

Description: § 205(d) Rate Filing: Midcontinent Independent System Operator, Inc. submits tariff filing per 35.13(a)(2)(iii: 2022-11-22_SA 2011 Ameren-Centralia 1st Rev WDS to be effective 2/1/2023.

Filed Date: 11/22/22.

Accession Number: 20221122-5072.

Comment Date: 5 p.m. ET 12/13/22.

Docket Numbers: ER23-479-000; TS23-1-000.

Applicants: Bellflower Solar 1, LLC, Bellflower Solar 1, LLC.

Description: Request for Temporary Waivers of Bellflower Solar 1, LLC.

Filed Date: 11/22/22.

Accession Number: 20221122-5079.

Comment Date: 5 p.m. ET 12/13/22.

Docket Numbers: ER23-481-000.

Applicants: TotalEnergies Gas & Power North America, Inc.

Description: § 205(d) Rate Filing: Updated Market Based Rate Tariff to be effective 11/23/2022.

Filed Date: 11/22/22.

Accession Number: 20221122-5168.

Comment Date: 5 p.m. ET 12/13/22.

Docket Numbers: ER23-482-000.

Applicants: Nevada Power Company.

Description: § 205(d) Rate Filing: Nevada Power Co. Service Agreements with Star Peak Geothermal, LLC to be effective 12/1/2022.

Filed Date: 11/22/22.

Accession Number: 20221122-5173.

Comment Date: 5 p.m. ET 12/13/22.

Take notice that the Commission received the following public utility holding company filings:

Docket Numbers: PH23-1-000.

Applicants: Axium Infrastructure Inc.

Description: Axium Infrastructure, Inc. submits FERC-65B Notice of Change in Fact to Waiver Notification.

Filed Date: 11/21/22.

Accession Number: 20221121-5218.

Comment Date: 5 p.m. ET 12/12/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 22, 2022.
Kimberly D. Bose,
Secretary.

[FR Doc. 2022-25987 Filed 11-28-22; 8:45 am]

BILLING CODE 6717-01-P